OFFICE OF THE UNITED STATES TRADE REPRESENTATIVE

[Docket Number USTR-2017-0005]

African Growth and Opportunity Act (AGOA): Request for Public Comments on Annual Review of Country Eligibility for Benefits Under AGOA in Calendar Year 2018; Scheduling of Hearing, and Request for Public Comments

AGENCY: Office of the United States Trade Representative.

ACTION: Notice of initiation of review, public hearing and request for comments.

SUMMARY: This notice announces the initiation of the annual review of the eligibility of the sub-Saharan African countries to receive the benefits of the African Growth and Opportunity Act (AGOA). The AGOA Implementation Subcommittee of the Trade Policy Staff Committee (Subcommittee) is developing recommendations for the President on AGOA country eligibility for calendar year 2018. The Subcommittee is requesting written public comments for this review and will conduct a public hearing on this matter. The Subcommittee will consider the written comments, written testimony, and oral testimony in developing recommendations for the President. Comments received related to the child labor criteria may also be considered by the Secretary of Labor in the preparation of the Department of Labor's report on child labor as required under section 504 of the Trade Act of 1974. This notice identifies the eligibility criteria under AGOA that must be considered under AGOA, and lists those sub-Saharan African countries that are currently eligible for the benefits of AGOA and those that were ineligible for such benefits in 2017.

DATES: August 4, 2017: Deadline for filing requests to appear at the August 23, 2017 public hearing, and for filing pre-hearing briefs, statements, or comments on sub-Saharan African countries' AGOA eligibility.

August 23, 2017: AGOA Implementation Subcommittee of the TPSC will convene a public hearing on AGOA country eligibility.

August 30, 2017: Deadline for filing post-hearing briefs, statements, or comments on this matter.

ADDRESSES: USTR strongly prefers electronic submissions made through the Federal eRulemaking portal: http://www.regulations.gov. Follow the instructions for submitting comments in section 3 below. The docket number is USTR-2017-0005. For alternatives to on-line submissions, please contact Yvonne Jamison, Trade Policy Staff Committee, at (202) 395-3475.

FOR FURTHER INFORMATION CONTACT: For procedural questions, please contact Yvonne Jamison at (202) 395-3475. All other questions should be directed to Alan Treat, Director for African Affairs, Office of the U.S. Trade Representative, at (202) 395-9514.

SUPPLEMENTARY INFORMATION:

1. Background

AGOA (Title I of the Trade and Development Act of 2000, Pub. L. 106-200) (19 U.S.C. 2466a et seq.), as amended, authorizes the President to designate sub-Saharan African countries as beneficiaries eligible for duty-free treatment for certain additional products not included for duty-free treatment under the Generalized System of Preferences (GSP) (Title V of the Trade Act of 1974 (19 U.S.C. 2461 et seq.) (1974 Act), as well as for the preferential treatment for certain textile and apparel articles.

The President may designate a country as a beneficiary sub-Saharan African country eligible for these benefits of AGOA if he determines that the country meets the eligibility criteria set forth in Section 104 of AGOA (19 U.S.C. 3703) section 502 of the 1974 Act (19 U.S.C. 2462).

Section 104 of AGOA includes requirements that the country has established or is making continual progress toward establishing, inter alia: A market-based economy; the rule of law, political pluralism, and the right to due process; the elimination of barriers to U.S. trade and investment; economic policies to reduce poverty; a system to combat corruption and bribery; and the protection of internationally recognized worker rights. In addition, the country may not engage in activities that undermine U.S. national security or foreign policy interests or engage in gross violations of internationally recognized human rights. Please see section 104 of the AGOA and section 502 of the 1874 Act for a complete list of the AGOA eligibility criteria.

Section 502 of the 1974 Act provides for country eligibility criteria under GSP, which is generally reviewed as a result of a petition process. For more information on the GSP criteria and review process, see section 502 of the 1974 Act and the annual Federal Register notice initiating the GSP product and country practices review.

Section 506A of the 1974 Act provides that the President shall monitor and review annually the progress of each sub-Saharan African country in meeting the foregoing eligibility criteria in order to determine whether each beneficiary sub-Saharan African country should continue to be eligible, and whether each sub-Saharan African country that is currently not a beneficiary, should be designated as such a country. If the President determines that a beneficiary sub-Saharan African country is not making continual progress in meeting the eligibility requirements, he must terminate the designation of the country as a beneficiary sub-Saharan African country. The President may also withdraw, suspend, or limit the application of duty-free treatment with respect to specific articles from a country if he determines that it would be more effective in promoting compliance with AGOA-eligibility requirements than terminating the designation of the country as a beneficiary sub-Saharan African country.

For 2017, 38 countries were designated as beneficiary sub-Saharan African countries. These countries, as well as the countries currently designated as ineligible, are listed below. The Subcommittee is seeking public comments in connection with the annual review of sub-Saharan African countries' eligibility for AGOA's benefits. The Subcommittee will consider any such comments in developing recommendations to the President related to this review. Comments related to the child labor criteria may also be considered by the Secretary of Labor in making the findings required under section 504 of the 1974 Act.

The following sub-Saharan African countries were designated as beneficiary sub-Saharan African countries in 2017:

Angola

Republic of Benin

Republic of Botswana

Burkina Faso

Republic of Cabo Verde

Republic of Cameroon

Central African Republic

Republic of Chad

Federal Islamic Republic of Comoros

Republic of Congo

Republic of Cote d'Ivoire

Republic of Djibouti

Ethiopia

Gabonese Republic

Republic of Ghana

Republic of Guinea

Republic of Guinea-Bissau

Republic of Kenya

Kingdom of Lesotho

Republic of Liberia

Republic of Madagascar

Republic of Malawi

Republic of Mali

Islamic Republic of Mauritania

Republic of Mauritius

Republic of Mozambique

Republic of Namibia

Republic of Niger

Federal Republic of Nigeria

Republic of Rwanda

Sao Tome & Principe

Republic of Senegal

Republic of Sierra Leone

Republic of South Africa

United Republic of Tanzania

Republic of Togo

Republic of Uganda

Republic of Zambia

The following sub-Saharan African countries were not designated as beneficiary sub-Saharan African countries in 2017:

Burundi Democratic Republic of Congo

The Gambia

Republic of Equatorial Guinea (graduated from GSP)

State of Eritrea

Republic of Seychelles (graduated from GSP)

Somalia

Republic of South Sudan

Republic of Sudan

Kingdom of Swaziland

Republic of Zimbabwe

II. Notice of Public Hearing

In addition to written comments from the public on the matters listed above, the Subcommittee of the TPSC will convene a public hearing at 10:00 a.m. on Wednesday, August 23, 2017, to receive testimony related to sub-Saharan African countries' eligibility for AGOA's benefits. Requests to present oral testimony at the hearing and pre-hearing briefs, statements, or comments must be received by noon August 4, 2017.

The hearing will be held at 1724 F Street NW., Washington, DC 20508 and will be open to the public and to the press. We will make a transcript of the hearing available on www.regulations.gov within approximately two weeks of the hearing.

We must receive your written requests to present oral testimony at the hearing and pre-hearing briefs, statements, or comments by noon on Friday, August 4, 2017. You must make the intent to testify notification in the “Type Comment” field under docket number USTR-2017-0005 on the www.regulations.gov Web site and you should include the name, address, telephone number and email address, if available, of the person presenting the testimony. You should attach a summary of the testimony by using the “Upload File” field. The name of the file also should include who will be presenting the testimony. Remarks at the hearing should be limited to no more than five minutes to allow for possible questions from the Subcommittee. You should submit all documents in accordance with the instructions in section III below.

III. Requirements for Submissions

In order to be assured of consideration, persons submitting a notification of intent to testify and/or written comments must do so in English by noon on Friday, August 4, 2017. USTR strongly encourages commenters to make on-line submissions, using the www.regulations.gov Web site. To submit comments via www.regulations.gov, enter docket number USTR-2017-0005 on the home page and click “search.” The site will provide a search-results page listing all documents associated with this docket. Find a reference to this notice and click on the link entitled “Comment Now!” For further information on using the www.regulations.gov Web site, please consult the resources provided on the Web site by clicking on “How to Use Regulations.gov” on the bottom of the home page. We will not accept hand-delivered submissions.

For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments or reply comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. You must make any alternative arrangements with Yvonne Jamison in advance of transmitting a comment. You can contact Ms. Jamison at (202) 395-3475. General information concerning USTR is available at www.ustr.gov.

We will post comments in the docket for public inspection, except business confidential information. You can view comments on the www.regulations.gov Web site by entering the relevant docket number in the search field on the home page.

IV. Petitions

15 CFR part 2017 permits any interested party to submit a petition to USTR, at any time, with respect to whether a beneficiary sub-Saharan African country is meeting the AGOA eligibility requirements. An interested party may file such a petition through www.regulations.gov, under docket number USTR-2017-0005.

Edward Gresser,
Chair of the Trade Policy Staff Committee, Office of the United States Trade Representative.

[FR Doc. 2017-14436 Filed 7-10-17; 8:45 am]

BILLING CODE 3290-F7-P